DEPARTMENT OF LABOR

Employment & Training Administration

[SGA/DFA-PY 08-18]

Solicitation for Grant Applications (SGA); Amendment One—Energy Training Partnership Grants

AGENCY: Employment and Training Administration (ETA), Labor.

ACTION: Notice: Amendment to SGA/DFA-PY 08-18.

SUMMARY: The Employment and Training Administration published a document in the Federal Register on June 24, 2009, announcing the availability of funds and solicitation for grant applications (SGA) for Energy Training Partnerships awarded through a competitive process. This amendment to the SGA clarifies items related to: (1) Eligible applicants (Section III.A); (2) Statewide and local entities that are eligible applicants (Section III.A.2); (3) participants eligible to receive training (Section III.E.1); (4) correction to formatting of “Other Eligibility Requirements” section; (5) Attachment 1 for the list of auto-impacted communities; and (6) supplementary information in Section B “Green Industries and Occupations.” The document is hereby amended.

1. Section III.A., “Eligible Applicants”: (page 30154) Is revised to confirm that Local Workforce Investment Boards and One Stop Career Centers are not eligible applicants, confirm that the applicant in the proposed project must be clearly designated, and provide information on the definition of non-profit entities. In the SGA, the language designated below as “old text” is replaced with the language designated as “new text,” as follows:

a. Old Text—“Under this announcement, eligible applicants are private nonprofit organizations that must apply under one of two categories: (1) National labor-management organizations with local networks; or (2) Statewide or local nonprofit partnerships. All applicants are expected to work in conjunction with partnerships consisting of labor organizations, employers, Workforce Investment Boards (WIBs), and other organizations as defined in section 171(e)(2)(B)(ii) of WIA. These categories create two applicant pools, which will compete separately for funding under this SGA.”

b. New Text—“Under this announcement, eligible applicants are private nonprofit organizations that must apply under one of two categories: (1) National labor-management organizations with local networks; or (2) Statewide or local nonprofit partnerships. All applicants are expected to work in conjunction with partnerships consisting of labor organizations, employers, Workforce Investment Boards, and other organizations as defined in section 171(e)(2)(B)(ii) of WIA. While the SGA indicates required and suggested partners, the proposal must designate a lead applicant. These categories create two applicant pools, which will compete separately for funding under this SGA. Local Workforce Investment Boards and One Stop Career Centers are not eligible applicants under this SGA. A private nonprofit entity is an organization that is legally organized for the purposes of tax exempt nonprofit status under the Internal Revenue Service (IRS), or is actively pursuing IRS nonprofit tax exempt status.”

2. Section III.A.2.,”Statewide and Local Entities”: (page 30154) Is revised to confirm that eligible applicants for the State and local category are Statewide or local private nonprofit entities, including private nonprofit entities that serve American Indian reservations. In the SGA, the language designated below as “old text” is replaced with the language designated as “new text,” as follows:

a. Old Text—“Statewide and Local Entities: Applicants for the State and local category are local or Statewide non-profit entities with a joint partnership of labor organizations, employers or industry organizations, Workforce Investment Boards and One Stop Career Centers. A Statewide or local entity that receives an award under category 2 of this SGA may not receive sub-grant or sub-contract funding from a national organization that receives an award under category 1. For the purposes of this SGA, the term `State' means each of the 50 States of the United States, the District of Columbia, and U.S. territories as defined in Section VI.B.”

b. New Text—“Statewide and Local Entities: Applicants for the State and local category are Statewide or local private nonprofit entities, including private nonprofit entities that serve American Indian reservations, with a joint partnership of labor organizations, employers or industry organizations, Workforce Investment Boards and One Stop Career Centers. A Statewide or local private nonprofit entity that receives an award under category 2 of this SGA may not receive sub-grant or sub-contract funding from a national organization that receives an award under category 1. For the purposes of this SGA, the term `State' means each of the 50 States of the United States, the District of Columbia, and U.S. territories as defined in Section VI.B.”

3. Section III.E.1, “Participants Eligible to Receive Training”: (page 30156) Is revised to clarify that individuals with disabilities are among the populations that can be served through grants awarded through this SGA by replacing the language designated below as “old text” with the language designated as “new text,” as follows:

a. Old Text—“Projects may also serve individuals with a criminal record; and populations that have not traditionally been employed in construction and skilled trade occupations, such as women and minorities.”

b. New Text—“Projects may also serve other types of individuals that may not be a part of the categories above, such as: individuals with a criminal record; individuals with disabilities; and populations that have not traditionally been employed in construction and skilled trade occupations, such as women and minorities.”

4. Correction to formatting of “Other Eligibility Requirements” section: The “Other Eligibility Requirements” section of the SGA is currently listed as section “D. Other Eligibility Requirements” on p. 30155. The section was formatted incorrectly, and the SGA is revised so that the “Other Eligibility Requirements” section is now listed as “C. Other Eligibility Requirements” instead of “D. Other Eligibility Requirements”. With this correction, “Other Eligibility Requirements” is now correctly listed as Section III.C. of the SGA.

5. Attachment I—Counties Impacted By Automotive-Related Restructuring: This notice is to provide “Attachment I” as referenced on p. 30154, Section II.A which is a list of 281 counties impacted by automotive-related restructuring from the Center for Automotive Research. In addition to the 281 counties, an additional 31 counties have been included on the list due to an inadvertent omission on the original list. This is the complete and final list and there will be no further changes to this list.

Attachment I: Counties Impacted by Automotive-Related Restructuring
FIPS | County name | State
1013 | Butler | AL
1021 | Chilton | AL
1083 | Limestone | AL
1085 | Lowndes | AL
1089 | Madison | AL
1095 | Marshall | AL
1101 | Montgomery | AL
1121 | Talladega | AL
1125 | Tuscaloosa | AL
5023 | Cleburne | AR
5041 | Desha | AR
5055 | Greene | AR
5083 | Logan | AR
6001 | Alameda | CA
6037 | Los Angeles | CA
10003 | New Castle | DE
13089 | DeKalb | GA
13121 | Fulton | GA
13139 | Hall | GA
13143 | Haralson | GA
13167 | Johnson | GA
13285 | Troup | GA
19029 | Cass | IA
19037 | Chickasaw | IA
19071 | Fremont | IA
19089 | Howard | IA
19095 | Iowa | IA
19115 | Louisa | IA
19149 | Plymouth | IA
19157 | Poweshiek | IA
19175 | Union | IA
19197 | Wright | IA
17007 | Boone | IL
17025 | Clay | IL
17031 | Cook | IL
17047 | Edwards | IL
17067 | Hancock | IL
17121 | Marion | IL
17113 | McLean | IL
17155 | Putnam | IL
17187 | Warren | IL
17189 | Washington | IL
17191 | Wayne | IL
18001 | Adams | IN
18003 | Allen | IN
18005 | Bartholomew | IN
18009 | Blackford | IN
18015 | Carroll | IN
18017 | Cass | IN
18025 | Crawford | IN
18033 | De Kalb | IN
18031 | Decatur | IN
18035 | Delaware | IN
18037 | Dubois | IN
18039 | Elkhart | IN
18041 | Fayette | IN
18045 | Fountain | IN
18047 | Franklin | IN
18051 | Gibson | IN
18053 | Grant | IN
18059 | Hancock | IN
18061 | Harrison | IN
18065 | Henry | IN
18067 | Howard | IN
18071 | Jackson | IN
18075 | Jay | IN
18077 | Jefferson | IN
18081 | Johnson | IN
18087 | Lagrange | IN
18093 | Lawrence | IN
18097 | Marion | IN
18103 | Miami | IN
18107 | Montgomery | IN
18113 | Noble | IN
18123 | Perry | IN
18133 | Putnam | IN
18135 | Randolph | IN
18143 | Scott | IN
18147 | Spencer | IN
18141 | St. Joseph | IN
18149 | Starke | IN
18151 | Steuben | IN
18153 | Sullivan | IN
18157 | Tippecanoe | IN
18159 | Tipton | IN
18175 | Washington | IN
18179 | Wells | IN
18183 | Whitley | IN
20001 | Allen | KS
20209 | Wyandotte | KS
21003 | Allen | KY
21009 | Barren | KY
21017 | Bourbon | KY
21023 | Bracken | KY
21031 | Butler | KY
21033 | Caldwell | KY
21041 | Carroll | KY
21043 | Carter | KY
21055 | Crittenden | KY
21057 | Cumberland | KY
21069 | Fleming | KY
21073 | Franklin | KY
21075 | Fulton | KY
21077 | Gallatin | KY
21081 | Grant | KY
21093 | Hardin | KY
21099 | Hart | KY
21101 | Henderson | KY
21103 | Henry | KY
21107 | Hopkins | KY
21111 | Jefferson | KY
21113 | Jessamine | KY
21121 | Knox | KY
21123 | Larue | KY
21137 | Lincoln | KY
21151 | Madison | KY
21155 | Marion | KY
21167 | Mercer | KY
21169 | Metcalfe | KY
21173 | Montgomery | KY
21179 | Nelson | KY
21183 | Ohio | KY
21191 | Pendleton | KY
21199 | Pulaski | KY
21207 | Russell | KY
21209 | Scott | KY
21211 | Shelby | KY
21213 | Simpson | KY
21221 | Trigg | KY
21227 | Warren | KY
21229 | Washington | KY
22017 | Caddo | LA
24510 | Baltimore (city) | MD
24043 | Washington | MD
26009 | Antrim | MI
26017 | Bay | MI
26025 | Calhoun | MI
26045 | Eaton | MI
26049 | Genesee | MI
26059 | Hillsdale | MI
26063 | Huron | MI
26065 | Ingham | MI
26067 | Ionia | MI
26069 | Iosco | MI
26075 | Jackson | MI
26079 | Kalkaska | MI
26081 | Kent | MI
26087 | Lapeer | MI
26091 | Lenawee | MI
26093 | Livingston | MI
26099 | Macomb | MI
26107 | Mecosta | MI
26111 | Midland | MI
26113 | Missaukee | MI
26115 | Monroe | MI
26125 | Oakland | MI
26127 | Oceana | MI
26133 | Osceola | MI
26135 | Oscoda | MI
26139 | Ottawa | MI
26143 | Roscommon | MI
26145 | Saginaw | MI
26147 | St. Clair | MI
26149 | St. Joseph | MI
26157 | Tuscola | MI
26159 | Van Buren | MI
26161 | Washtenaw | MI
26163 | Wayne | MI
26165 | Wexford | MI
27029 | Clearwater | MN
27123 | Ramsey | MN
29047 | Clay | MO
29061 | Daviess | MO
29079 | Grundy | MO
29105 | Laclede | MO
29113 | Lincoln | MO
29147 | Nodaway | MO
29175 | Randolph | MO
29183 | St. Charles | MO
29189 | St. Louis | MO
29229 | Wright | MO
28009 | Benton | MS
28011 | Bolivar | MS
28051 | Holmes | MS
28089 | Madison | MS
28119 | Quitman | MS
28129 | Smith | MS
28145 | Union | MS
28161 | Yalobusha | MS
37063 | Durham | NC
37071 | Gaston | NC
37089 | Henderson | NC
37145 | Person | NC
37165 | Scotland | NC
38051 | McIntosh | ND
31019 | Buffalo | NE
31047 | Dawson | NE
31051 | Dixon | NE
31141 | Platte | NE
31159 | Seward | NE
34023 | Middlesex | NJ
34039 | Union | NJ
36029 | Erie | NY
36063 | Niagara | NY
36067 | Onondaga | NY
36089 | St. Lawrence | NY
39001 | Adams | OH
39003 | Allen | OH
39011 | Auglaize | OH
39019 | Carroll | OH
39021 | Champaign | OH
39025 | Clermont | OH
39027 | Clinton | OH
39033 | Crawford | OH
39035 | Cuyahoga | OH
39039 | Defiance | OH
39043 | Erie | OH
39051 | Fulton | OH
39061 | Hamilton | OH
39063 | Hancock | OH
39065 | Hardin | OH
39069 | Henry | OH
39071 | Highland | OH
39077 | Huron | OH
39079 | Jackson | OH
39083 | Knox | OH
39091 | Logan | OH
39093 | Lorain | OH
39095 | Lucas | OH
39097 | Madison | OH
39113 | Montgomery | OH
39117 | Morrow | OH
39121 | Noble | OH
39125 | Paulding | OH
39131 | Pike | OH
39135 | Preble | OH
39137 | Putnam | OH
39139 | Richland | OH
39141 | Ross | OH
39143 | Sandusky | OH
39147 | Seneca | OH
39149 | Shelby | OH
39153 | Summit | OH
39155 | Trumbull | OH
39159 | Union | OH
39161 | Van Wert | OH
39169 | Wayne | OH
39171 | Williams | OH
39173 | Wood | OH
39175 | Wyandot | OH
40095 | Marshall | OK
40109 | Oklahoma | OK
42003 | Allegheny | PA
42117 | Tioga | PA
45007 | Anderson | SC
45019 | Charleston | SC
45021 | Cherokee | SC
45035 | Dorchester | SC
45067 | Marion | SC
45083 | Spartanburg | SC
47001 | Anderson | TN
47003 | Bedford | TN
47007 | Bledsoe | TN
47009 | Blount | TN
47015 | Cannon | TN
47031 | Coffee | TN
47041 | DeKalb | TN
47045 | Dyer | TN
47051 | Franklin | TN
47053 | Gibson | TN
47055 | Giles | TN
47061 | Grundy | TN
47063 | Hamblen | TN
47065 | Hamilton | TN
47069 | Hardeman | TN
47073 | Hawkins | TN
47077 | Henderson | TN
47079 | Henry | TN
47087 | Jackson | TN
47097 | Lauderdale | TN
47099 | Lawrence | TN
47105 | Loudon | TN
47113 | Madison | TN
47117 | Marshall | TN
47119 | Maury | TN
47107 | McMinn | TN
47109 | McNairy | TN
47121 | Meigs | TN
47123 | Monroe | TN
47131 | Obion | TN
47133 | Overton | TN
47135 | Perry | TN
47141 | Putnam | TN
47143 | Rhea | TN
47147 | Robertson | TN
47149 | Rutherford | TN
47151 | Scott | TN
47159 | Smith | TN
47177 | Warren | TN
47185 | White | TN
48029 | Bexar | TX
48439 | Tarrant | TX
49003 | Box Elder | UT
51023 | Botetourt | VA
51710 | Norfolk (city) | VA
51155 | Pulaski | VA
51173 | Smyth | VA
51177 | Spotsylvania | VA
55059 | Kenosha | WI
55075 | Marinette | WI
55105 | Rock | WI
54079 | Putnam | WV

6. Supplementary Information Section B “Green Industries and Occupations”: Is revised to provide further information on the industries on which applicants may focus by adding the language designated below as “new text” to the existing language in that section:

a. New Text: “We will also evaluate applications for projects that include emerging green occupations from industries that have not been discussed in this section.”

FOR FURTHER INFORMATION CONTACT: Janice Sheelor, Grants Management Specialist, Division of Federal Assistance, at (202) 693-3538.

Signed at Washington, DC, this 17th day of July 2009.
Donna Kelly,
Grant Officer, Employment & Training Administration.

[FR Doc. E9-17458 Filed 7-22-09; 8:45 am]

BILLING CODE 4510-FN-P